DEPARTMENT OF TRANSPORTATION

Federal Aviation Administration

Noise Exposure Map Notice and Receipt of Noise Compatibility Program and Request for Review

AGENCY: Federal Aviation Administration, DOT.

ACTION: Notice.

SUMMARY: The Federal Aviation Administration (FAA) announces its determination that the noise exposure maps submitted by Seattle-Tacoma Internation Airport under the provisions of 49 U.S.C. 47503 (a) and 14 CFR part 150 are in compliance with applicable requirements. The FAA also announces that its is reviewing the proposed noise compatibility program that was submitted for Seattle-Tacoma International Airport under Part 150 in conjunction with the noise exposure maps, and that this program will be approved or disapproved on or before June 3, 2002.

EFFECTIVE DATE: The effective date of the FAA's determination on the Seattle-Tacoma International Airport noise exposure maps and the start of its review of the associated noise compatibility program is December 3, 2001. The public comment period ends January 31, 2002.

FOR FURTHER INFORMATION CONTACT: Dennis Ossenkop, FAA, Airports Division, ANM-611, 1601 Lind Avenue, SW., Renton, Washington, 98055-4056. Comments on the proposed noise compatibility program should also be submitted to the above office.

SUPPLEMENTARY INFORMATION: The notice announces that the FAA finds that the noise exposure maps for Seattle-Tacoma International Airport are in compliance with applicable requirements of Part 150, effective December 3, 2001. Further, FAA is reviewing a proposed noise compatibility program for that airport which will be approved or disapproved on or before June 3, 2002. This notice also announces the availability of this program for public review and comment.

Under 49 U.S.C. 47503(a), and airport operator may submit to the FAA a noise exposure map which meets applicable regulations and which depicts noncompatible land uses as of the date of submission of such map, a description of projected aircraft operations, and the ways in which such operations will affect such map. 49 U.S.C. 47503 (a)(1) requires such maps to be developed in consultation with interested and affected parties in the local community, government agencies and persons using the airport.

An airport operator who has submitted a noise exposure map that has been found by FAA to be in compliance with the requirements of Federal Aviation Regulation (FAR) Part 150, promulgated pursuant to 49 U.S.C. 47503 (A) may submit a noise compatibility program for FAA approval which sets forth the measures the operator has taken or proposes for the reduction of existing noncompatible uses and for the prevention of the introduction of additional noncompatible uses.

The Manager of the Airfield Line of Business of Seattle-Tacoma International Airport submitted to the FAA noise exposure maps, descriptions and other documentation which were produced during an airport Noise Compatibility Study. It was requested that the FAA review the noise mitigation measures be approved as a noise compatibility program under 49 U.S.C. 47504.

The FAA has completed its review of the noise exposure maps and related descriptions submitted by Seattle-Tacoma Internation Airport. The specific maps under consideration are Figures C40 and F1 in the submission. The FAA has determined that these maps for Seattle-Tacoma International Airport are in compliance with applicable requirements. This determination is effective on December 3, 2001. FAA's determination on an airport operator's noise exposure maps is limited to the determination that the mans were developed in accordance with the procedures contained in Appendix A of FAR Part 150. Such determination does not constitute approval of the applicant's data, information or plans, or a commitment to a noise compatibility program or to fund implementation of that program.

If questions arise concerning the precise relationship of specific properties to noise exposure contours depicted on noise exposure maps submitted under 49 U.S.C. 47503, it should be noted that the FAA is not involved in any way in determining the relative locations of specific properties with regard to the depicted noise contours, or in interpreting the noise exposure maps to resolve questions concerning, for example, which properties should be covered by the provisions of 49 U.S.C. 47507. These functions are inseparable from the ultimate land control and planning responsibilities of local government. These local responsibilities are not changed in any way under Part 150 or through FAA's review of noise exposure maps. Therefore, the responsibility for the detailed overlaying of noise exposure contours onto the maps depicting properties on the surface rests exclusively with the airport operator which submitted those maps, or with those public agencies and planning agencies with which consultation is required under 49 U.S.C. 47503(a)(1). The FAA has relied on the certification by the airport operator, under section 150.21 of the FAR part 150, that the statutorily required consultation has been accomplished.

The FAA has formally received the noise compatibility program for Seattle-Tacoma International Airport, also effective on December 3, 2001. Preliminary review of the submitted material indicates that it conforms to the requirements for the submittal of noise compatibility programs, but that further review will be necessary prior to approval or disapproval of the program. The formal review period, limited by law to a maximum of 180 days, will be completed on or before June 3, 2002.

The FAA's detailed evaluation will be conducted under the provisions of 14 CFR part 150, paragraph 150.33. The primary considerations in the evaluation process are whether the proposed measures may reduce the level of aviation safety, create an undue burden on interstate or foreign commerce, or be reasonably consistent with obtaining the goal of reducing existing noncompatible land uses and preventing the introduction of additional noncompatible land uses.

Interested persons are invited to comment on the proposed program with specific reference to these factors. All comments, other than those properly addressed to the local land use authorities, will be considered by the FAA to the extent practicable. Copies of the noise exposure maps, the FAA's evaluation of the maps, and the proposed noise compatibility program are available for examination at the following locations:

Federal Aviation Administration, 800 Independence Avenue, SW., Room 621, Washington, DC.

Federation Aviation Administration, Airports Division, Suite 315, 1601 Lind Avenue, SW., Renton, Washington.

Federal Aviation Administration, Seattle Airports District Office, 1601 Lind Ave. SW., Suite 250, Renton, Washington.

Seattle-Tacoma International Airport, Noise Abatement Office, Main Terminal, Room 6619, Mezzanine Level, Seattle, Washington.

Questions may be directed to the individual named above under the heading, FOR FURTHER INFORMATION CONTACT.

Issued in Renton, Washington, December 3, 2001.
Lowell H. Johnson,
Manager, Airports Division, ANM-600, Northwest Mountain Region.

[FR Doc. 01-30483 Filed 12-7-01; 8:45 am]

BILLING CODE 4910-13-M